DEPARTMENT OF TRANSPORTATION

Federal Aviation Administration

14 CFR Part 39

[Docket No. FAA-2005-21880; Directorate Identifier 2004-NM-216-AD]

RIN 2120-AA64

Airworthiness Directives; Boeing Model 767-300 and -300F Series Airplanes

AGENCY: Federal Aviation Administration (FAA), Department of Transportation (DOT).

ACTION: Proposed rule; withdrawal.

SUMMARY: The FAA withdraws a notice of proposed rulemaking (NPRM) that proposed a new airworthiness directive (AD) for certain Boeing Model 767-300 and -300F series airplanes. The proposed AD would have required a one-time operational test of the pilots' seat locks and the seat tracks to ensure that the seats lock in position and the seat tracks are aligned correctly; and re-alignment of the seat tracks, if necessary. Since the proposed AD was issued, we have received new data that the affected airplanes are included in the applicability of an existing AD that addresses the unsafe condition. Accordingly, the proposed AD is withdrawn.

ADDRESSES: You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-21880; the directorate identifier for this docket is 2004-NM-216-AD.

FOR FURTHER INFORMATION CONTACT: Sue Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Discussion

We proposed to amend part 39 of the Federal Aviation Regulations (14 CFR part 39) with a notice of proposed rulemaking (NPRM) for a new AD for certain Boeing Model 767-300 and -300F series airplanes. That NPRM was published in the Federal Register on July 21, 2005 (70 FR 42008). The NPRM would have required a one-time operational test of the pilots' seat locks and the seat tracks to ensure that the seats lock in position and the seat tracks are aligned correctly; and re-alignment of the seat tracks, if necessary. The NPRM resulted from reports indicating that a pilot's seat slid from the forward to the aft-most position during acceleration and take-off. The proposed actions were intended to prevent uncommanded movement of the pilots' seats during acceleration and take-off of the airplane, and consequent reduced controllability of the airplane.

Actions Since NPRM Was Issued

Since we issued the NPRM, we have determined that the affected Boeing Model 767-300 and -300F series airplanes, variable numbers (V/Ns) VK145, VL941, VN968, VW714, and VW715, are already included in the applicability of existing AD 98-03-10, amendment 39-10302 (63 FR 5725, February 4, 1998). We have further determined that, since the identified unsafe condition is being adequately addressed on these five affected airplanes by existing AD 98-03-10, it is unnecessary to provide further rulemaking at this time.

Comments

We provided the public the opportunity to participate in the development of this AD. We have considered the comments received.

Request To Remove Certain Airplanes From the Applicability

Two commenters request that we remove certain airplanes from the applicability of the NPRM. One commenter operates the affected airplane having V/N VL914, which corresponds to line number (L/N) 637. (We infer the commenter meant to reference V/N VL941.) A second commenter operates affected airplanes having V/Ns VW714 and VW715, which correspond to L/Ns 638 and 640, respectively. Both commenters state that their affected airplanes are included in the applicability of AD 98-03-10, which is applicable to certain Model 737, 747, 757, and 767 airplanes, having certain line numbers; equipped with non-powered IPECO pilots' seats. Of the affected Model 767 airplanes, AD 98-03-10 is applicable to L/Ns 1 through 642 inclusive.

As discussed previously, we agree with the commenter's request.

FAA's Conclusions

Upon further consideration, we have determined that the five Model 767-300 and -300F series airplanes, which were added to the effectivity of Boeing Special Attention Service Bulletin 767-25-0244, Revision 2, dated September 2, 2004, are included in the applicability of an existing AD that addresses the unsafe condition. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-21880, Directorate Identifier 2004-NM-216-AD, which was published in the Federal Register on July 21, 2005 (70 FR 42008).

Issued in Renton, Washington, on December 6, 2005.
Kevin M. Mullin,
Acting Manager, Transport Airplane Directorate, Aircraft Certification Service.

[FR Doc. 05-23905 Filed 12-9-05; 8:45 am]

BILLING CODE 4910-13-P